DEPARTMENT OF THE INTERIOR

Fish and Wildlife Service

[Docket No. FWS-HQ-NWRS-2024-0136; FF09R81000.FVRS80810900000.XXX]

Green River National Wildlife Refuge, KY; Establishment of Hunting Permit Fees

AGENCY: Fish and Wildlife Service, Interior.

ACTION: Notice of intent.

SUMMARY: We, the Fish and Wildlife Service, announce our intent to establish and implement amenity fees at Green River National Wildlife Refuge (Refuge), located in Kentucky, as authorized by the Federal Lands Recreation Enhancement Act (FLREA). We intend to implement hunting permit fees. Under FLREA provisions, the refuge will identify and post the fees. Unless we publish a notice in the Federal Register withdrawing this action, we will implement the fees on the date shown in the DATES section. We invite comments on our intended action from the public and local, State, Tribal, and Federal agencies.

DATES: We must receive any written comments on or before March 20, 2025. For more information, see Public Comments under SUPPLEMENTARY INFORMATION. Unless we publish a notice in the Federal Register withdrawing this action, we will implement the amenity fees on July 1, 2025.

ADDRESSES: Submitting Comments: If you wish to submit comments, you may do so in writing by one of the following methods:

• Online: https://www.regulations.gov. Follow the instructions for submitting comments on Docket No. FWS-HQ-NWRS-2024-0136.

• U.S. mail: Public Comments Processing, Attn: Docket No. FWS-HQ-NWRS-2024-0136; U.S. Fish and Wildlife Service, MS: PRB/3W, 5275 Leesburg Pike, Falls Church, VA 22041-3803.

FOR FURTHER INFORMATION CONTACT: Michael Johnson, by telephone at 270-527-5770 or via email at michael_johnson@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

Established in November 2019, Green River National Wildlife Refuge (refuge) is located in Henderson, Kentucky, near the confluence of the Ohio and Green Rivers, an area known for bottomland hardwood forest. This important habitat helps support migrating waterfowl, songbirds, fish, and other wildlife.

Intent To Implement Amenity Fees

We, the U.S. Fish and Wildlife Service, announce our intent to implement amenity fees at the refuge, as authorized by the Federal Lands Recreation Enhancement Act (16 U.S.C. 6801-6814; FLREA). We intend to implement hunting permit fees. Under FLREA provisions, the refuge will identify and post the specific hunting fees. Unless we publish a notice in the Federal Register withdrawing this action, we will implement the fees on the date in the DATES section.

Hunting Permit Fees

Under section 3 of the FLREA, we will implement the hunting permit fees in table 1.

Table 1—Annual Hunting Permit Fees; Green River National Wildlife Refuge
Hunter type | Permit fee
Adult (16-64 years of age) | $20.00
Youth (under 16 years of age) | Free
Youth—Quota Hunt | 10.00
Veteran | 10.00
Adult over 65 years of age | 10.00

The implementation of these fees will provide the refuge with funds to offset expenses related to managing the hunt program, other visitor services, law enforcement salaries, and expansion and improvements of visitor amenities. It is our policy to allow only activities that are appropriate and compatible with the refuge's purposes.

Background

In accordance with regulations governing the National Wildlife Refuge System (50 CFR part 25, subpart E) a refuge may implement fees and other reasonable charges for public recreational use of lands administered by that refuge. When considering fees, a refuge is required by our regulations to evaluate the following:

• The direct and indirect cost to the Government;

• The benefits to the permit holder;

• The public policy or interest served;

• The comparable fees charged by non-Federal public agencies; and

• The economic and administrative feasibility of fee collection.

The National Wildlife Refuge System Administration Act of 1966, as amended by the National Wildlife Refuge System Improvement Act of 1997 (16 U.S.C. 668dd-668ee), allows National Wildlife Refuges to provide wildlife-dependent recreation to visitors, but these laws require refuges to manage for the conservation of fish, wildlife, and habitat for current as well as future generations of Americans. To fulfill these obligations, Green River National Wildlife Refuge plans to use collected fees to defray costs associated with visitor amenities.

Public Comments

Submitting Comments

Please make your comments as specific as possible and explain the basis for them. In addition, please include sufficient information with your comments to allow us to authenticate any scientific or commercial data you reference or provide. Such information may lead to a final decision that differs from this proposal.

Public Availability of Comments

If you submit a comment at https://www.regulations.gov, your entire comment, including any personal identifying information, will be posted on the website. If you submit a hardcopy comment that includes personal identifying information, such as your address, phone number, or email address, you may request at the top of your document that we withhold this information from public review; however, we cannot guarantee that we will be able to do so. Moreover, all submissions from organizations or businesses, and from individuals identifying themselves as representatives or officials of organizations or businesses, will be made available for public disclosure in their entirety.

Next Steps

If public comments were to provide substantive reasons why we should not implement the proposed hunting permit fee program at the refuge, we would reevaluate our plan and publish a subsequent notice in the Federal Register withdrawing this action. Otherwise, we will implement the proposed fee program at the Green River National Wildlife Refuge on the date specified in the DATES section of this document, and the refuge will post fee amounts and expenditures on site.

Authority

Federal Lands Recreation Enhancement Act (16 U.S.C. 6801-6814).

Michael Oetker,
Regional Director, Southeast Region, U.S. Fish and Wildlife Service.

[FR Doc. 2024-30442 Filed 12-19-24; 8:45 am]

BILLING CODE 4333-15-P